FEDERAL EMERGENCY MANAGEMENT AGENCY

Radiological Emergency Preparedness: Planning Guidance

AGENCY: Federal Emergency Management Agency.

ACTION: Notice of availability.

SUMMARY: The Federal Emergency Management Agency (FEMA) is announcing the availability of draft REP Program Planning Guidance for comment. The Planning Guidance document is available at http://www.fema.gov/rrr/rep/.

DATES: FEMA must receive comments on or before April 29, 2003.

ADDRESSES: You may submit your comments to the Rules Docket Clerk, Office of the General Counsel, Federal Emergency Management Agency, 500 C Street, SW., room 840, Washington, DC 20472, or send them by e-mail to rules@fema.gov. Please reference “REP Planning Guidance” in the subject line of your e-mail or comment letter.

FOR FURTHER INFORMATION CONTACT: Vanessa E. Quinn, Chief, Radiological Emergency Preparedness Branch, Technological Services Division, Federal Emergency Management Agency, 500 C Street, SW., Washington, DC 20472; telephone: (202) 646-3664, or e-mail: vanessa.quinn@fema.gov, or Nancy H. Goldstein, Radiological Emergency Preparedness Branch, Technological Services Division, Federal Emergency Management Agency, 500 C Street, SW., Washington DC 20472, telephone: (202) 646-4285, or (e-mail) nancy.goldstein@fema.gov.

SUPPLEMENTARY INFORMATION: In December 2002, the Federal Emergency Management Agency (FEMA) posted a draft Planning Guidance document on its Web site for a 30-day comment period, ending on January 24, 2003. In response to commenters' requests for additional time and for notification through the Federal Register, FEMA has extended the conclusion of the comment period to 60 days from the date of this notice. The document may be accessed at http://www.fema.gov/rrr/rep/. Comments that were submitted to FEMA during the initial 30-day period do not need to be resubmitted.

Dated: February 11, 2003.
W. Craig Conklin,
Director, Technological Services Division, Office of National Preparedness.

[FR Doc. 03-4721 Filed 2-27-03; 8:45 am]

BILLING CODE 6718-06-P